INTERNATIONAL TRADE COMMISSION

[Investigation No. 337-TA-1406]

Certain Memory Devices and Electronic Devices Containing the Same; Notice of a Commission Determination Not To Review an Initial Determination Terminating an Investigation Based on a Settlement Agreement; Termination of Investigation

AGENCY: U.S. International Trade Commission.

ACTION: Notice.

SUMMARY: Notice is hereby given that the U.S. International Trade Commission (“Commission”) has determined not to review an initial determination (“ID”) (Order No. 10) of the presiding administrative law judge (“ALJ”) granting a joint motion to terminate the investigation based on a settlement agreement. The investigation is terminated.

FOR FURTHER INFORMATION CONTACT: Lynde Herzbach, Office of the General Counsel, U.S. International Trade Commission, 500 E Street SW, Washington, DC 20436, telephone (202) 205-3228. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on July 9, 2024, based on a complaint filed by MimirIP LLC of Dallas, Texas (“Complainant” or “Mimir”). 89 FR 56406-407 (July 9, 2024). The complaint, as supplemented, alleges violations of section 337 of the Tariff Act of 1930, as amended, 19 U.S.C. 1337, in the importation into the United States, the sale for importation, or the sale within the United States after importation of certain memory devices and electronic devices containing the same by reason of the infringement of certain claims of U.S. Patent Nos. 7,468,928; 7,579,846; and 8,036,053. Id. The complaint further alleges that a domestic industry exists. Id. The Commission's notice of investigation named as respondents Micron Technology Inc. of Boise, Idaho; Hewlett Packard Enterprise Co. of Spring, Texas; HP, Inc. of Palo Alto, California; Kingston Technology Company, Inc. of Fountain Valley, California; Lenovo Group Limited of Hong Kong; Lenovo (United States) Inc. of Morrisville, North Carolina; and Tesla Inc. of Austin, Texas. Id. The Office of Unfair Import Investigations (“Staff”) is participating in the investigation for issues relating to the economic prong of the domestic industry requirement, remedy, and public interest only. EDIS Doc. ID 826262 (July 17, 2024).

The Commission previously terminated respondent Lenovo Group Limited from this investigation and amended the complaint and the notice of investigation to add Lenovo PC HK Limited of Hong Kong and Lenovo Global Technology (United States) Inc. of Morrisville, North Carolina as respondents. Order No. 8 (Aug. 8, 2024), unreviewed by 89 FR 68645 (Aug. 27, 2024).

On August 27, 2024, Complainant and respondent Micron Technology, Inc. jointly moved for termination of this investigation in its entirety based on settlement agreements, which are “a [sublicense] agreement between Mimir and SK hynix Inc. and a patent license agreement between SK hynix and Micron.” ID at 1 n. 1 (citing Mot. at 2). The joint motion notes that it is “based on an agreement between Mimir and SK hynix and an agreement between SK hynix and Micron, which ‘collectively resolve all claims in the complaint asserted against all Respondents in this Investigation.’ ” Id. at 2 (citing Mot. at 2). The joint motion notes that it is not opposed by the non-moving respondents, Hewlett Packard Enterprise Co., HP Inc., Kingston Technology Company, Inc., Lenovo PC HK Limited, Lenovo Global Technology (United States) Inc., Lenovo (United States) Inc., and Tesla, Inc. On September 5, 2024, Staff filed a response supporting the joint motion. No other responses were filed.

On September 12, 2024, the presiding ALJ issued the subject ID granting the joint motion to terminate the investigation. Order No. 10 (Sept. 12, 2024). The subject ID finds that the joint motion complies with Commission Rule 210.21(b)(1) (19 CFR 210.21(b)) and that no extraordinary circumstances prevent granting the motion. The ID also finds that termination of the investigation based on settlement would not be contrary to the public interest.

No petitions for review of the ID were filed.

The Commission has determined not to review the subject ID (Order No. 10). The investigation is terminated.

The Commission vote for this determination took place on October 4, 2024.

The authority for the Commission's determination is contained in section 337 of the Tariff Act of 1930, as amended (19 U.S.C. 1337), and in part 210 of the Commission's Rules of Practice and Procedure (19 CFR part 210).

By order of the Commission.
Issued: October 4, 2024.
Lisa Barton,
Secretary to the Commission.

[FR Doc. 2024-23402 Filed 10-9-24; 8:45 am]

BILLING CODE 7020-02-P